DEPARTMENT OF STATE

[Public Notice 6684]

Postponement of the United States-Chile Environment Affairs Council and Joint Commission for Environmental Cooperation Meetings

ACTION: Notice of meetings; postponement.

SUMMARY: The Department of State (DOS) and the Office of the United States Trade Representative (USTR) are hereby providing notice that the fifth meeting of the United States-Chile Environment Affairs Council (the “Council”) and the third meeting of the Joint Commission for Environmental Cooperation (the “Commission”), which were previously scheduled for July 1, 2009, have been postponed. The meetings have not yet been rescheduled. DOS and USTR will publish notice in the Federal Register of the date, time and agenda for the rescheduled meetings, and will invite interested agencies, organizations, and members of the public to submit written comments or suggestions regarding agenda items when arrangements for the meetings are complete. The Department of State and USTR originally provided notice of the meetings on June 11, 2009, at 74 FR 27858 (2009).

Dated: June 24, 2009.
Robert A. Sorenson,
Acting Director, Office of Environmental Policy, Department of State.

[FR Doc. E9-15334 Filed 6-26-09; 8:45 am]

BILLING CODE 4710-09-P